DEPARTMENT OF HOMELAND SECURITY

Federal Emergency Management Agency

44 CFR Part 65

[Docket ID FEMA-2011-0002; Internal Agency Docket No. FEMA-B-1240]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Mobile | City of Mobile (11-04-2597P) | November 10, 2011; November 17, 2011; The Press-Register | The Honorable Samuel L. Jones, Mayor, City of Mobile, 205 Government Street, South Tower, 10th Floor, Mobile, AL 36602 | March 16, 2012 | 015007
Mobile | Unincorporated areas of Mobile County (11-04-5528P) | December 1, 2011; December 8, 2011; The Press-Register | The Honorable Connie Hudson, President, Mobile County Commission, 205 Government Street, Mobile, AL 36644 | April 6, 2012 | 015008
Arizona:
Cochise | City of Sierra Vista (11-09-2096P) | October 28, 2011; November 4, 2011; The Sierra Vista Herald | The Honorable Rick Mueller, Mayor, City of Sierra Vista, 1011 North Coronado Drive, Sierra Vista, AZ 85635 | October 20, 2011 | 040017
Maricopa | City of Glendale (11-09-3464P) | November 24, 2011; December 1, 2011; The Arizona Business Gazette | The Honorable Elaine M. Scruggs, Mayor, City of Glendale, 5850 West Glendale Avenue, Glendale, AZ 85301 | March 30, 2012 | 040045
Maricopa | City of Peoria (11-09-3464P) | November 24, 2011; December 1, 2011; The Arizona Business Gazette | The Honorable Bob Barrett, Mayor, City of Peoria, 8401 West Monroe Street, Peoria, AZ 85345 | March 30, 2012 | 040050
California:
Orange | City of Laguna Beach (11-09-3647P) | November 4, 2011; November 11, 2011; The Laguna Beach Coastline Pilot | The Honorable Toni Iseman, Mayor, City of Laguna Beach, 505 Forest Avenue, Laguna Beach, CA 92651 | March 12, 2012 | 060223
Santa Clara | City of San Jose (12-09-0140P) | December 2, 2011; December 9, 2011; The San Jose Mercury News | The Honorable Chuck Reed, Mayor, City of San Jose, 200 East Santa Clara Street, San Jose, CA 95113 | December 22, 2011 | 060349
Colorado:
El Paso | City of Colorado Springs (11-08-0869P) | November 2, 2011; November 9, 2011; The El Paso County Advertiser and News | The Honorable Steve Bach, Mayor, City of Colorado Springs, 30 South Nevada Avenue, Colorado Springs, CO 80903 | March 8, 2012 | 080060
El Paso | Unincorporated areas of El Paso County (11-08-0869P) | November 2, 2011; November 9, 2011; The El Paso County Advertiser and News | The Honorable Dennis Hisey, Chairman, El Paso County Board of Commissioners, 27 East Vermijo Avenue, Colorado Springs, CO 80903 | March 8, 2012 | 080059
Florida:
Escambia | Unincorporated areas of Escambia County (11-04-7674P) | November 25, 2011; December 2, 2011; The Pensacola News Journal | The Honorable Wilson Robertson, Chairman, Escambia County Board of Commissioners, 221 Palafox Place, Suite 400, Pensacola, FL 32502 | November 17, 2011 | 120080
Indian River | Town of Indian River Shores (11-04-7942P) | November 25, 2011; December 2, 2011; The Indian River Press Journal | The Honorable Thomas W. Cadden, Mayor, Town of Indian River Shores, 6001 North Highway A1A, Indian River Shores, FL 32963 | November 17, 2011 | 120121
Lee | Unincorporated areas of Lee County (12-04-0044P) | November 25, 2011; December 2, 2011; The News-Press | The Honorable John Manning, Chairman, Lee County Board of Commissioners, 2120 Main Street, Fort Myers, FL 33901 | November 17, 2011 | 125124
Orange | City of Orlando (11-04-7338P) | November 22, 2011; November 29, 2011; The Orlando Sentinel | The Honorable Buddy Dyer, Mayor, City of Orlando, 400 South Orange Avenue, Orlando, FL 32802 | March 28, 2012 | 120186
Seminole | Unincorporated areas of Seminole County (11-04-8756X) | November 4, 2011; November 11, 2011; The Orlando Sentinel | The Honorable Brenda Carey, Chair, Seminole County Board of Commissioners, 1101 East 1st Street, Sanford, FL 32771 | October 26, 2011 | 120289
Georgia: Cherokee | Unincorporated areas of Cherokee County (10-04-8275P) | October 7, 2011; October 14, 2011; The Cherokee Tribune | The Honorable L. B. Ahrens, Jr., Chairman, Cherokee County Board of Commissioners, 1130 Bluffs Parkway, Canton, GA 30114 | February 13, 2012 | 130424
Hawaii: | City and County of Honolulu (11-09-3899P) | November 10, 2011; November 17, 2011; The Honolulu Star-Advertiser | The Honorable Peter B. Carlisle, Mayor, City and County of Honolulu, 530 South King Street, Room 300, Honolulu, HI 96813 | March 16, 2012 | 150001
Mississippi:
Lee | City of Saltillo (10-04-8523P) | November 4, 2011; November 11, 2011; The Northeast Mississippi Daily Journal | The Honorable Bill Williams, Mayor, City of Saltillo, 395 Mobile Street, Saltillo, MS 38866 | March 12, 2012 | 280261
Lee | Unincorporated areas of Lee County (10-04-8523P) | November 4, 2011; November 11, 2011; The Northeast Mississippi Daily Journal | The Honorable Joe McKinney, Chairman, Lee County Board of Supervisors, 200 West Jefferson Street, Suite 100, Tupelo, MS 38801 | March 12, 2012 | 280227
Wyoming:
Campbell | City of Gillette (11-08-0781P) | October 21, 2011; October 28, 2011; The News-Record | The Honorable Tom Murphy, Mayor, City of Gillette, 201 East 5th Street, Gillette, WY 82717 | February 27, 2012 | 560007
Campbell | Unincorporated areas of Campbell County (11-08-0781P) | October 21, 2011; October 28, 2011; The News-Record | The Honorable Stephen F. Hughes, Chairman, Campbell County Board of Directors, 500 South Gillette Avenue, Suite #1100, Gillette, WY 82716 | February 27, 2012 | 560081

(Catalog of Federal Domestic Assistance No. 97.022, “Flood Insurance.”)

Dated: January 12, 2012.
Sandra K. Knight,
Deputy Associate Administrator for Mitigation, Department of Homeland Security, Federal Emergency Management Agency.

[FR Doc. 2012-1318 Filed 1-23-12; 8:45 am]

BILLING CODE 9110-12-P